DEPARTMENT OF ENERGY

Federal Energy Regulatory Commission

Combined Notice of Filings #1

Take notice that the Commission received the following electric corporate filings:

Docket Numbers: EC20-53-000.

Applicants: Mountain Breeze Wind, LLC.

Description: Application for Authorization Under Section 203 of the Federal Power Act, et al. of Mountain Breeze Wind, LLC.

Filed Date: 4/20/20.

Accession Number: 20200420-5282.

Comments Due: 5 p.m. ET 5/11/20.

Take notice that the Commission received the following exempt wholesale generator filings:

Docket Numbers: EG20-128-000.

Applicants: Assembly Solar, LLC.

Description: Notice of Self-Certification of Exempt Wholesale Generator Status of Assembly Solar, LLC.

Filed Date: 4/20/20.

Accession Number: 20200420-5266.

Comments Due: 5 p.m. ET 5/11/20.

Take notice that the Commission received the following electric rate filings:

Docket Numbers: ER10-3115-006.

Applicants: Waterside Power, LLC.

Description: Triennial Market Power Update for the Northeast Region of Waterside Power, LLC.

Filed Date: 4/20/20.

Accession Number: 20200420-5278.

Comments Due: 5 p.m. ET 6/19/20.

Docket Numbers: ER10-3117-008.

Applicants: Lea Power Partners, LLC.

Description: Triennial Market Power Update for the Southwest Power Pool Region of Lea Power Partners, LLC.

Filed Date: 4/20/20.

Accession Number: 20200420-5280.

Comments Due: 5 p.m. ET 6/19/20.

Docket Numbers: ER13-445-009; ER11-4060-009; ER11-4061-009; ER14-2823-007; ER15-1170-005; ER15-1171-005; ER15-1172-005; ER15-1173-005.

Applicants: Badger Creek Limited, Bear Mountain Limited, Chalk Cliff Limited, Double C Generation Limited Partnership, High Sierra Limited, Kern Front Limited, Live Oak Limited, McKittrick Limited.

Description: Triennial Market Power Update for the Southwest Power Pool Region of Badger Creek Limited, et al.

Filed Date: 4/20/20.

Accession Number: 20200420-5301.

Comments Due: 5 p.m. ET 6/19/20.

Docket Numbers: ER13-738-007; ER10-1186-010; ER10-1329-010; ER11-2731-003; ER11-3097-011; ER12-421-003.

Applicants: DTE Electric Company, DTE Energy Trading, Inc., DTE Energy Supply, Inc., DTE Garden Wind Farm, LLC, DTE Stoney Corners Wind Farm, LLC, St. Paul Cogeneration, LLC.

Description: Notice of Non-Material Change in Status of the DTE MBR Entities.

Filed Date: 4/20/20.

Accession Number: 20200420-5273.

Comments Due: 5 p.m. ET 5/11/20.

Docket Numbers: ER20-1613-000.

Applicants: The Potomac Edison Company, Monongahela Power Company, PJM Interconnection, L.L.C.

Description: § 205(d) Rate Filing: Potomac Edison submits Interconnection Agreement, SA No. 4984 with Monongahela to be effective 6/19/2020.

Filed Date: 4/20/20.

Accession Number: 20200420-5215.

Comments Due: 5 p.m. ET 5/11/20.

Docket Numbers: ER20-1614-000.

Applicants: Cedar Point Wind, LLC.

Description: § 205(d) Rate Filing: Market-Based Rate Tariff Revisions Cedar Point Wind (Docket ER11-2753-006) to be effective 4/21/2020.

Filed Date: 4/20/20.

Accession Number: 20200420-5224.

Comments Due: 5 p.m. ET 5/11/20.

Docket Numbers: ER20-1615-000.

Applicants: Midcontinent Independent System Operator, Inc.

Description: § 205(d) Rate Filing: 2020-04-21_SA 3478 Dairyland Power-Fillmore County Solar GIA (J718) to be effective 4/7/2020.

Filed Date: 4/21/20.

Accession Number: 20200421-5013.

Comments Due: 5 p.m. ET 5/12/20.

Docket Numbers: ER20-1616-000.

Applicants: Western Spirit Transmission, LLC.

Description: Baseline eTariff Filing: FERC Application—Facilities Use Agreement to be effective 4/21/2020.

Filed Date: 4/21/20.

Accession Number: 20200421-5016.

Comments Due: 5 p.m. ET 5/12/20.

Docket Numbers: ER20-1617-000.

Applicants: Southwest Power Pool, Inc.

Description: § 205(d) Rate Filing: Tariff Revisions to Add Ramp Capability to be effective 12/31/9998.

Filed Date: 4/21/20.

Accession Number: 20200421-5054.

Comments Due: 5 p.m. ET 5/12/20.

Docket Numbers: ER20-1618-000.

Applicants: Red Horse Wind 2, LLC.

Description: Baseline eTariff Filing: Reactive Power Compensation Filing to be effective 5/1/2020.

Filed Date: 4/21/20.

Accession Number: 20200421-5056.

Comments Due: 5 p.m. ET 5/12/20.

Docket Numbers: ER20-1619-000.

Applicants: Red Horse III, LLC.

Description: Baseline eTariff Filing: Reactive Power Compensation Filing to be effective 5/1/2020.

Filed Date: 4/21/20.

Accession Number: 20200421-5058.

Comments Due: 5 p.m. ET 5/12/20.

Docket Numbers: ER20-1620-000.

Applicants: AES Solutions Management, LLC.

Description: Baseline eTariff Filing: AES Solutions Management, LLC MBR Application to be effective 6/21/2020.

Filed Date: 4/21/20.

Accession Number: 20200421-5080.

Comments Due: 5 p.m. ET 5/12/20.

Docket Numbers: ER20-1621-000.

Applicants: AEP Texas Inc.

Description: § 205(d) Rate Filing: AEPTX-Rayos Del Sol Solar Project Interconnection Agreement 2nd A&R to be effective 4/9/2020.

Filed Date: 4/21/20.

Accession Number: 20200421-5076.

Comments Due: 5 p.m. ET 5/12/20.

Docket Numbers: ER20-1622-000.

Applicants: Southwest Power Pool, Inc.

Description: § 205(d) Rate Filing: 1605R1 Elk City Renewables II GIA Cancellation to be effective 4/8/2020.

Filed Date: 4/21/20.

Accession Number: 20200421-5100.

Comments Due: 5 p.m. ET 5/12/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2020.
Nathaniel J. Davis, Sr.,
Deputy Secretary.

[FR Doc. 2020-08872 Filed 4-24-20; 8:45 am]

BILLING CODE 6717-01-P